DEPARTMENT OF THE INTERIOR

Fish and Wildlife Service

Notice of Availability of the Revised Assessment Plan for the Natural Resource Damage Assessment at the St. Louis River/Interlake/Duluth Tar Superfund Site

AGENCY: Fish and Wildlife Service, Interior.

ACTION: Notice of availability.

SUMMARY: Notice is given that the document titled “Assessment Plan for the Natural Resource Damage Assessment at the St. Louis River Interlake/Duluth Tar Superfund Site, 9/24/02” (“The Plan”) is available for public review. The U.S. Departments of the Interior (Fish and Wildlife Service, Bureau of Indian Affairs) and Commerce (National Oceanic and Atmospheric Administration), The State of Minnesota (Minnesota Department of Natural Resources, Minnesota Pollution Control Agency), The Fond du Lac Band of Lake Superior Chippewa, and The 1854 Authority (representing the Bois Forte Band and Grand Portage Band of Lake Superior Chippewa) are trustees for natural resources (“trustees”) considered in this assessment, pursuant to subpart G of the National Oil and Hazardous Substances Pollution Contingency Plan, 40 CFR 300.600 and 300.610, and Executive Order 12580.

The trustees are following the guidance of the Natural Resource Damage Assessment Regulations found at 43 CFR part 11, and provided the public an opportunity to review a draft Plan and submit comments (67 FR 132, Jul. 10, 2002). The trustees considered all comments received, and revised the draft Plan. The Plan announced by this Notice is considered to be complete for implementation, as provided for in 43 CFR 11.32(c).

Interested members of the public are invited to review the Plan. Copies of the Plan can be requested from the address listed below.

DATES: The trustees completed revisions to the Plan on September 24, 2002.

ADDRESSES: Requests for copies of the Plan should be sent to: Marilyn Danks, Trustee Coordinator, Minnesota Department of Natural Resources, Division of Ecological Services, 500 Lafayette Road, St. Paul, MN 55155-4025. You may also submit requests for copies of the Plan by sending electronic mail (e-mail) to: marilyn.danks@dnr.state.mn.us. See SUPPLEMENTARY INFORMATION for information about electronic mailing and access.

FOR FURTHER INFORMATION CONTACT: Case Management and Logistical Information: Dave Warburton, (612) 725-3548 (x203) Technical Information: Annette Trowbridge, (612) 725-3548 (x202).

SUPPLEMENTARY INFORMATION: The trustees are undertaking an assessment of damages resulting from suspected injuries to natural resources in and near the Lower St. Louis River which have been exposed to hazardous substances released by industrial activity at the St. Louis River/Interlake/Duluth Tar Superfund Site. The trustees suspect this exposure has caused injury and resultant damages to trustee resources. The injury and resultant damages will be assessed under the Comprehensive Environmental Response, Compensation, and Liability Act, as amended, and the Clean Water Act, as amended, in order to determine the appropriate type and extent of resource restoration. The Assessment Plan addresses the trustees' overall assessment approach, and utilizes both existing data as well as additional data to be collected as described in study workplans attached to the Plan. It is important to note that the purpose of the Plan is to organize the approach for determining and quantifying natural resource injuries and calculating the damages associated with those injuries; the Plan is not a claim for damages for injuries to all natural resources listed in the Assessment Plan. The trustees provided the public an opportunity to review a draft Plan and submit comments (67 FR 132, Jul. 10, 2002). All comments received by the trustees in response to the draft Plan were carefully reviewed and considered. As a result, a number of revisions were made to the draft Plan. Revisions made to the draft Plan in response to public comments include minor wording changes clarifying the responsible parties as identified by Minnesota Pollution Control Agency, decisions regarding implementation of the assessment, the State's role under the Minnesota Environmental Response, Compensation, and Liability Act, and coordination of the assessment with the Remedial Investigation/Feasibility Study process. A paragraph was also added to clarify the availability of quality assurance project plans for trustee-conducted studies. Other changes included corrected capitalization of words and citations and/or references, wording edits, additions of scientific names for fish and wildlife species, and updated confirmation of exposure values. The Avian Exposure and Injury Study Workplan did not change. The Methods section of the Fish Exposure and Injury Study Workplan was rearranged to clarify procedures, and to note that individual fish are being analyzed in 2002, for greater statistical strength in the study. A “Revisions to Draft Assessment Plan” document, is included with the Plan, and provides a listing of all revisions. These revisions are not significant and do not alter the scope or methodologies proposed for the assessment. Therefore, the Assessment Plan, with these modifications, is considered to be complete for implementation. All of the comments received on the draft Plan during the public review period, as well as trustee responses to those comments, will be included in the Report of Assessment to be completed at the conclusion of the assessment.

This Plan may be modified at any stage of the assessment as new information becomes available. If significant modifications are made to this Plan, and when other major planning documents and/or reports that are part of the assessment process are completed, the trustees will solicit public comments on the modifications or other documents as provided in 43 CFR part 11. Any further Plan modifications considered to be non-significant will be made available for public review, but the implementation of such modifications will not be delayed as a result of the review. Plan addenda may be prepared by the trustees to provide public notice of additional data collection activities. Restoration of natural resources will be proposed by the trustees following the assessment.

Electronic Mail and Access

You may request copies of the Plan, and the “Revisions to Draft Assessment Plan” document, by sending electronic mail (e-mail) to: marilyn.danks@dnr.state.mn.us. Do not use any special characters or forms of encryption in your e-mail.

Dated: November 22, 2002.
William F. Hartwig,
Regional Director, Region 3, U.S. Fish and Wildlife Service.

[FR Doc. 02-31638 Filed 12-16-02; 8:45 am]

BILLING CODE 4310-55-P